DEPARTMENT OF COMMERCE

National Oceanic and Atmospheric Administration

RIN 0648-XF059

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold public meetings of the Council and its Committees.

DATES: The meeting will be held on Monday December 12 through Thursday, December 15, 2016. For agenda details, see SUPPLEMENTARY INFORMATION.

ADDRESSES: The meetings will be held at: Royal Sonesta Harbor Court, 550 Light Street, Baltimore, MD 21202, telephone: (410) 234-0550.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The following items are on the agenda, though agenda items may be addressed out of order (changes will be noted on the Council's Web site when possible).

Agenda

Monday, December 12, 2016

Executive Committee (CLOSED MEETING)

Discuss Council awards and process and MAFMC/NEFMC joint management issue.

Mackerel, Squid, Butterfish Meeting as a Committee of the Whole Squid Amendment

Review Committee and Advisory Panel input and adopt alternatives for the public hearing document.

Lenfest Ecosystem Task Force Report

Industry-Funded Monitoring Amendment—Final Action

Review public comments and select final preferred alternatives.

Law Enforcement Report

Consideration of NJ Request for SMZ Status

Final action.

BOEM New York Energy Area Presentation

Tuesday, December 13, 2016

Council Photo

Monkfish Specifications

Review Committee recommendations and select final preferred alternatives.

HMS Amendment

Receive a presentation on Dusky Shark Management Measures and consider developing Council comments.

Observer Safety Program Review

National Standard 1 Guidelines

Meeting with the Atlantic States Marine Fisheries Commission's Summer Flounder, Scup, and Black Sea Bass Boards.

Scup Commercial Quota Framework/Addendum

Review initial analysis and Monitoring Committee and Advisory Panel comments.

Summer Flounder Allocation Review Study

Review and discuss commercial/recreational allocation model results and peer review summary.

Sex-Specific Summer Flounder Assessment Model Update

Wednesday, December 14, 2016

Meeting with the Atlantic States Marine Fisheries Commission's Summer Flounder, Scup, and Black Sea Bass Boards.

Summer Flounder Amendment

Update progress, discuss amendment timeline and action plan.

Effects of Ocean Acidification on Summer Flounder Reproduction and Productivity

Summer Flounder, Scup, Black Sea Bass Recreational Specifications

Review Monitoring Committee and Advisory Panel recommendations, adopt recommendations for 2017 management measures, BSB discussion on state-by-state recreational performance relative to regional targets and ASMFC Addendum for summer flounder (Board action).

Thursday, December 15, 2016

2017 Implementation Plan

Review and adopt 2017 Implementation Plan.

Business Session

The day will conclude with brief reports from the National Marine Fisheries Service's GARFO and the Northeast Fisheries Science Center, NOAA's Office of General Counsel, the ASMFC, the New England and South Atlantic Fishery Council's liaisons and the Regional Planning Body Report. The Council will also receive the Council's Executive Director's Report, the Science Report, Committee Reports, and discuss any continuing and/or new business.

Although other non-emergency issues not contained in this agenda may come before this Council for discussion, those issues may not be the subjects of formal action during this meeting. Council action will be restricted to those issues specifically listed in this notice and any issues arising after publication of this notice that require emergency action under section 305(c) of the Magnuson-Stevens act, provided that the public has been notified of the Council's intent to take final action to address the emergency.

Special Accommodations

This meeting is physically accessible to people with disabilities. Requests for sign language interpretation or other auxiliary aids should be directed to M. Jan Saunders, (302) 526-5251, at least 5 days prior to the meeting date.

Dated: November 22, 2016.
Tracey L. Thompson,
Acting Deputy Director, Office of Sustainable Fisheries, National Marine Fisheries Service.

[FR Doc. 2016-28510 Filed 11-25-16; 8:45 am]

BILLING CODE 3510-22-P